NATIONAL SCIENCE FOUNDATION

Special Emphasis Panel in Research, Evaluation and Communication; Notice of Meeting

In accordance with the Federal Advisory Committee Act (Pub. L. 92-463, as amended), the National Science Foundation announces the following meeting:

Name: Research, Evaluation and Communication (1210).

Date/Time: June 26, 2000—Rooms 380 & 390 (8am-6pm)

June 27, 2000—Rooms 380 & 390 (8am-6pm)

July 13, 2000—Rooms 380 & 390 (8am-6pm)

July 14, 2000—Rooms 380 & 390 (8am-6pm)

Place: National Science Foundation, 4201 Wilson Boulevard, Arlington, VA 22230.

Type of Meeting: Closed.

Contact Person: Elizabeth VanderPutten, Program Director, Research Evaluation and Communications Division National Science Foundation, Room 855, 4201 Wilson Boulevard, Arlington, VA 22230. (703) 306-1650.

Purpose of Meeting: To provide advice and recommendations concerning proposals submitted to NSF for financial support.

Agenda: To review and evaluate ROLE Proposals as part of the selection process for awards.

Reason for Closing: The proposals being reviewed include information of a proprietary or confidential nature, including technical information; financial data, such as salaries; and personal information concerning individuals associated with the proposals. These matters are exempt under 5 U.S.C. 552b(c), (4) and(6) of the Government in the Sunshine Act.

Dated: May 12, 2000.
Karen J. York,
Committee Management Officer.

[FR Doc. 00-12446 Filed 5-17-00; 8:45 am]

BILLING CODE 7555-01-M